FEDERAL DEPOSIT INSURANCE CORPORATION

Sunshine Act Meetings

TIME AND DATE: 10:00 a.m. on June 20, 2024.

PLACE: This Board meeting will be open to public observation only by webcast. Visit https://www.fdic.gov/news/board-matters/video.html for a link to the webcast. FDIC Board Members and staff will participate from FDIC Headquarters, 550 17th Street NW, Washington, DC.

Observers requiring auxiliary aids (e.g., sign language interpretation) for this meeting should email DisabilityProgram@fdic.gov to make necessary arrangements.

STATUS: Open to public observation via webcast.

MATTERS TO BE CONSIDERED: The Federal Deposit Insurance Corporation's Board of Directors will meet to consider the following matters:

Discussion Agenda:

Memorandum and resolution re: Final Rule to Revise 12 CFR 360.10 and Associated Delegations of Authority.

Memorandum and resolution re: Board Briefings on Certain Merger and Deposit Insurance Applications Outstanding for More Than 270 Days.

Summary Agenda: No substantive discussion of the following items is anticipated. The Board will resolve these matters with a single vote unless a member of the Board of Directors requests that an item be moved to the discussion agenda.

Memorandum and resolution re: Proposed Amendments to Bank Secrecy Act Compliance Rule (12 CFR part 326).

Memorandum and resolution re: Final Rule: Quality Control Standards for Automated Valuation Models.

Memorandum and resolution re: Review of FDIC Regulations in Accordance with the Economic Growth and Regulatory Paperwork Reduction Act (EGRPRA).

Disposition of Minutes of a Board of Directors' Meeting Previously Distributed.

Summary reports, status reports, and reports of actions taken pursuant to authority delegated by the Board of Directors.

CONTACT PERSON FOR MORE INFORMATION: Direct requests for further information concerning the meeting to Debra A. Decker, Executive Secretary of the Corporation, at 202-898-8748.

Authority: 5 U.S.C. 552b.

Dated at Washington, DC, on June 18, 2024.
Federal Deposit Insurance Corporation.
James P. Sheesley,
Assistant Executive Secretary.

[FR Doc. 2024-13848 Filed 6-20-24; 11:15 am]

BILLING CODE 6714-01-P